DEPARTMENT OF THE INTERIOR

Fish and Wildlife Service

Availability of a Final Recovery Plan for Thirteen Plant Taxa From the Northern Channel Islands

AGENCY: U.S. Fish and Wildlife Service, Interior.

ACTION: Notice of document availability.

SUMMARY: We, the U.S. Fish and Wildlife Service, announce the availability of a final recovery plan for 13 plant taxa from the northern Channel Islands, California. These taxa include 11 plants listed as endangered, Hoffmann's rock-cress (Arabis hoffmannii), Santa Rosa Island manzanita (Arctostaphylos confertiflora), island barberry (Berberis pinnata ssp. insularis), soft-leaved paintbrush (Castilleja mollis), island bedstraw (Galium buxifolium), Hoffmann's slender-flowered gilia (Gilia tenuiflora ssp. hoffmannii), Santa Cruz Island bushmallow (Malacothamnus fasciculatus var. nesioticus), Santa Cruz Island malacothrix (Malacothrix indecora), island malacothrix (Malacothrix squalida), island phacelia (Phacelia insularis var. insularis), and Santa Cruz Island fringepod (Thysanocarpus conchuliferus) and two plants listed as threatened, Santa Cruz Island dudleya (Dudleya nesiotica) and island rush-rose (Helianthemum greenei). These threatened and endangered plants are native to Anacapa, San Miguel, Santa Rosa, Santa Cruz, and Santa Catalina Islands. To assure their recovery, they require control of introduced herbivores and weeds, habitat restoration, and reintroduction measures.

ADDRESSES: Recovery plans that have been approved by the U.S. Fish and Wildlife Service are available on the World Wide Web at http://www.r1.fws.gov. Recovery Plans may also be obtained from: Fish and Wildlife Reference Service, 5430 Grosvenor Lane, Suite 110, Bethesda, Maryland 20814, 301/429-6403 or 1-800-582-3421. The fee for the plan varies depending on the number of pages of the plan.

FOR FURTHER INFORMATION CONTACT: Tim Thomas, Fish and Wildlife Biologist, Barstow Field Sub-Office of the U.S. Fish and Wildlife Service, 222 East Main Street, Suite 202, Barstow CA 92311, (phone 760/255-8890).

SUPPLEMENTARY INFORMATION:

Background

Restoring endangered or threatened animals and plants to the point where they are again secure, self-sustaining members of their ecosystems is a primary goal of the U. S. Fish and Wildlife Service's endangered species program. To help guide the recovery effort, we are working to prepare recovery plans for most of the listed species native to the United States. Recovery plans describe actions considered necessary for the conservation of the species, establish criteria for downlisting or delisting listed species, and estimate time and cost for implementing the recovery measures needed.

The Endangered Species Act of 1973, as amended (Act) (16 U.S.C. 1531 et seq.), requires the development of recovery plans for listed species unless such a plan would not promote the conservation of a particular species. Section 4(f) of the Act as amended in 1988 requires that public notice and an opportunity for public review and comment be provided during recovery plan development. Information presented during the public comment period has been considered in the preparation of the final recovery plan, and is summarized in the appendix to the recovery plan. We will forward substantive comments regarding recovery plan implementation to appropriate Federal or other entities so that they can take these comments into account during the course of implementing recovery actions.

All 13 plant taxa covered in this recovery plan are endemic to the northern Channel Islands (Anacapa, Santa Cruz, Santa Rosa, and San Miguel), with the exception of a few populations of island rush-rose that occur on the more southerly island of Santa Catalina. These plants occur in a variety of habitats: coastal terrace, coastal bluff scrub, coastal sage scrub, and chaparral. All 13 plant taxa and their habitats have been variously affected or are currently threatened by one or more of the following: soil loss; historic and continuing habitat alteration by mammals alien to the Channel Islands (pigs, goats, sheep, donkeys, cattle, deer, elk, horses, bison); direct predation by these same alien mammals; habitat alteration by native seabirds; competition with alien plant taxa; and increased vulnerability to extinction due to reduced genetic viability, depressed reproductive vigor, and the chance of extinction from random naturally occurring events because of small numbers of individuals and isolated populations.

The objective of this plan is to conserve the plants so that protection by the Act is no longer necessary. Actions necessary to accomplish this objective include active control programs for introduced animals, implementation of an interagency Conservation Strategy, habitat restoration and weed control, surveys, conservation research, seed storage in cooperating facilities, and development of techniques for germination, propagation, and outplanting.

Authority

The authority for this action is section 4(f) of the Endangered Species Act, 16 U.S.C. 1533(f).

Dated: February 15, 2001.
Michael J. Spear,
Manager, California/Nevada Operations Office, Region 1, U.S. Fish and Wildlife Service.

[FR Doc. 01-4365 Filed 2-21-01; 8:45 am]

BILLING CODE 4310-55-P